DEPARTMENT OF LABOR

Employment and Training Administration

[TA-W-54,374]

B & B Marketing, Fort Payne, AL; Notice of Termination of Investigation

Pursuant to section 221 of the Trade Act of 1974, an investigation was initiated on February 27, 2004 in response to a petition filed by a company official on behalf of workers at B & B Marketing, Fort Payne, Alabama.

The petitioner has requested that the petition be withdrawn. Consequently, the investigation has been terminated.

Signed in Washington, DC this 5th day of March 2004.
Elliott S. Kushner,
Certifying Officer, Division of Trade Adjustment Assistance.

[FR Doc. 04-7586 Filed 4-2-04; 8:45 am]

BILLING CODE 4510-30-P